DEPARTMENT OF COMMERCE

National Oceanic and Atmospheric Administration

50 CFR Part 600

[Docket No. 071121736-7619-01]

RIN 0648-AR78

Magnuson-Stevens Act Provisions; Experimental Permitting Process, Exempted Fishing Permits, and Scientific Research Activity

AGENCY: National Marine Fisheries Service (NMFS), National Oceanic and Atmospheric Administration (NOAA), Commerce.

ACTION: Proposed rule; extension of comment period.

SUMMARY: NMFS extends the public comment period on the proposed rule containing revised definitions for certain regulatory terms, and procedural and technical changes to the regulations addressing scientific research activities, exempted fishing, and exempted educational activities under the Magnuson-Stevens Fishery Conservation and Management Act. NMFS has received a request to extend the comment period for the proposed rule beyond its current 90-day comment period. The extension of the comment period for an additional 15 days is intended to ensure that NMFS provides adequate time for fishery management councils, stakeholders and members of the public to comment on the proposed revisions. The comment deadline is extended from March 20, 2008, to April 4, 2008.

DATES: Comments must be received on or before April 4, 2008.

ADDRESSES: You may submit comments, identified by RIN 0648-AR78, by any one of the following methods:

• Electronic Submissions: Submit all electronic public comments via the Federal eRulemaking Portal http://www.regulations.gov

• Fax: 301-713-1193, Attn: Jason Blackburn

• Mail: Alan Risenhoover, Director, Office of Sustainable Fisheries, 1315 East-West Highway, SSMC3, Silver Spring, MD 20910, Attn: EFP Comments

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments. Attachments to electronic comments will be accepted in Microsoft Word, Excel, WordPerfect, or Adobe PDF file formats only.

FOR FURTHER INFORMATION CONTACT: Jason Blackburn at 301-713-2341, or by e-mail at jason.blackburn@noaa.gov.

SUPPLEMENTARY INFORMATION: A proposed rule that covers NMFS' proposed revisions to the regulations addressing scientific research activities, exempted fishing, and exempted educational activities under the Magnuson-Stevens Fishery Conservation and Management Act was published on December 21, 2007 (72 FR 72657), with a comment period ending date of March 20, 2008. After receiving several requests to extend the comment period, NMFS has decided to extend it for an additional 15 days through April 4, 2008.

Authority: 16 U.S.C. 971 et seq., 1801 et seq.

Dated: March 13, 2008.
John Oliver,
Deputy Assistant Administrator for Operations, National Marine Fisheries Service.

[FR Doc. E8-5425 Filed 3-17-08; 8:45 am]

BILLING CODE 3510-22-S